DEPARTMENT OF ENERGY

Federal Energy Regulatory Commission

Combined Notice of Filings #2

Take notice that the Commission received the following electric corporate filings:

Docket Numbers: ER23-307-000.

Applicants: Black Hills Colorado Electric, LLC.

Description: § 205(d) Rate Filing: Filing of Second Amended and Restated 69kV Distribution Wheeling Agr and NOA to be effective 1/1/2023.

Filed Date: 10/31/22.

Accession Number: 20221031-5218.

Comment Date: 5 p.m. ET 11/21/22.

Docket Numbers: ER23-308-000.

Applicants: Black Hills Colorado Electric, LLC.

Description: § 205(d) Rate Filing: Filing of Second Amended and Restated 69kV Distribution Wheeling Agr and NOA to be effective 1/1/2023.

Filed Date: 10/31/22.

Accession Number: 20221031-5223.

Comment Date: 5 p.m. ET 11/21/22.

Docket Numbers: ER23-309-000.

Applicants: Tucson Electric Power Company.

Description: Compliance filing: Report Regarding Wholesale Sales in WECC to be effective 5/3/2022.

Filed Date: 10/31/22.

Accession Number: 20221031-5231.

Comment Date: 5 p.m. ET 11/21/22.

Docket Numbers: ER23-310-000.

Applicants: New England Power Pool Participants Committee.

Description: § 205(d) Rate Filing: Nov 2022 Membership Filing to be effective 10/1/2022.

Filed Date: 10/31/22.

Accession Number: 20221031-5233.

Comment Date: 5 p.m. ET 11/21/22.

Docket Numbers: ER23-311-000.

Applicants: Wisconsin Public Service Corporation.

Description: § 205(d) Rate Filing: Revisions to the AS Tariff for Suspension of Weston Unit 2 to be effective 1/1/2023.

Filed Date: 10/31/22.

Accession Number: 20221031-5237.

Comment Date: 5 p.m. ET 11/21/22.

Docket Numbers: ER23-312-000.

Applicants: Townsite Solar, LLC.

Description: Compliance filing: Townsite Solar Notice and Justification for Spot Sales Above WECC Soft Cap to be effective N/A.

Filed Date: 10/31/22.

Accession Number: 20221031-5245.

Comment Date: 5 p.m. ET 11/21/22.

Docket Numbers: ER23-313-000.

Applicants: Public Service Company of New Mexico.

Description: Compliance filing: WECC Price cap September 2022 to be effective 4/8/2022.

Filed Date: 10/31/22.

Accession Number: 20221031-5255.

Comment Date: 5 p.m. ET 11/21/22.

Docket Numbers: ER23-314-000.

Applicants: Evergy Kansas Central, Inc.

Description: § 205(d) Rate Filing: Revision, FreeState Full Requirements Electric Service Agreement to be effective 1/1/2023.

Filed Date: 10/31/22.

Accession Number: 20221031-5257.

Comment Date: 5 p.m. ET 11/21/22.

Docket Numbers: ER23-315-000.

Applicants: MidAmerican Central California Transco, LLC.

Description: § 205(d) Rate Filing: 2022 Annual TRBAA Update Filing to be effective 1/1/2023.

Filed Date: 10/31/22.

Accession Number: 20221031-5258.

Comment Date: 5 p.m. ET 11/21/22.

Docket Numbers: ER23-316-000.

Applicants: Calpine Energy Services, L.P.

Description: Compliance filing: Notice and Justification for Spot Sales above WECC Soft Cap to be effective N/A.

Filed Date: 10/31/22.

Accession Number: 20221031-5261.

Comment Date: 5 p.m. ET 11/21/22.

Docket Numbers: ER23-317-000.

Applicants: Riverstart Solar Park LLC.

Description: Baseline eTariff Filing: Reactive Power Compensation Baseline Filing to be effective 11/2/2022.

Filed Date: 11/1/22.

Accession Number: 20221101-5014.

Comment Date: 5 p.m. ET 11/22/22.

Docket Numbers: ER23-318-000.

Applicants: Midcontinent Independent System Operator, Inc., Ameren Services Company.

Description: § 205(d) Rate Filing: Midcontinent Independent System Operator, Inc. submits tariff filing per 35.13(a)(2)(iii): 2022-11-01_Amendment to AMMO-ATXI-Wabash JPZ Agrmt RE MJMEUC to be effective 1/1/2023.

Filed Date: 11/1/22.

Accession Number: 20221101-5039.

Comment Date: 5 p.m. ET 11/22/22.

Docket Numbers: ER23-320-000.

Applicants: Flemington Solar, LLC, Frenchtown I Solar, LLC, Frenchtown II Solar, LLC, Frenchtown III Solar, LLC, Lakehurst Solar, L.L.C., PA Solar Park, LLC, PA Solar Park II, LLC, Pilesgrove Solar, LLC.

Description: Joint Request For Partial Waiver of the 90-day prior notice requirement set forth in Schedule 2 of the PJM Tariff and Request For Expedited Consideration.

Filed Date: 10/31/22.

Accession Number: 20221031-5393.

Comment Date: 5 p.m. ET 11/21/22.

Docket Numbers: ER23-321-000.

Applicants: Consolidated Edison Company of New York, Inc.

Description: § 205(d) Rate Filing: Energy Storage NYISO 11-1-2022 to be effective 11/1/2022.

Filed Date: 11/1/22.

Accession Number: 20221101-5077.

Comment Date: 5 p.m. ET 11/22/22.

Docket Numbers: ER23-322-000.

Applicants: Midcontinent Independent System Operator, Inc., ALLETE, Inc.

Description: § 205(d) Rate Filing: Midcontinent Independent System Operator, Inc. submits tariff filing per 35.13(a)(2)(iii: 2022-11-01_ALLETE Depreciation Rates Filing to be effective 1/1/2022.

Filed Date: 11/1/22.

Accession Number: 20221101-5094.

Comment Date: 5 p.m. ET 11/22/22.

Docket Numbers: ER23-323-000.

Applicants: Tampa Electric Company.

Description: § 205(d) Rate Filing: Attachment N—Non Firm Energy Exchange Transmission Service to be effective 12/31/9998.

Filed Date: 11/1/22.

Accession Number: 20221101-5137.

Comment Date: 5 p.m. ET 11/22/22.

Docket Numbers: ER23-324-000.

Applicants: Tampa Electric Company.

Description: § 205(d) Rate Filing: Rate Schedule 105—SEEM Joinder Agreement to be effective 1/1/2023.

Filed Date: 11/1/22.

Accession Number: 20221101-5138.

Comment Date: 5 p.m. ET 11/22/22.

Docket Numbers: ER23-325-000.

Applicants: Duke Energy Florida, LLC.

Description: § 205(d) Rate Filing: DEF-RS No. 388-Joinder Agreement to Southeast Energy Exchange Market Agreement to be effective 1/1/2023.

Filed Date: 11/1/22.

Accession Number: 20221101-5139.

Comment Date: 5 p.m. ET 11/22/22.

Docket Numbers: ER23-326-000.

Applicants: Arroyo Solar LLC.

Description: Baseline eTariff Filing: Application for Market-Based Rate Authority to be effective 12/31/2022.

Filed Date: 11/1/22.

Accession Number: 20221101-5144.

Comment Date: 5 p.m. ET 11/22/22.

Docket Numbers: ER23-327-000.

Applicants: Arroyo Energy Storage LLC.

Description: Baseline eTariff Filing: Application for Market-Based Rate Authority to be effective 12/31/2022.

Filed Date: 11/1/22.

Accession Number: 20221101-5145.

Comment Date: 5 p.m. ET 11/22/22.

Docket Numbers: ER23-328-000.

Applicants: Arroyo Solar LLC.

Description: Initial rate filing: Filing of Shared Facilities Agreement and Request for Waivers to be effective 12/31/2022.

Filed Date: 11/1/22.

Accession Number: 20221101-5146.

Comment Date: 5 p.m. ET 11/22/22.

Docket Numbers: ER23-329-000.

Applicants: Tri-State Generation and Transmission Association, Inc.

Description: § 205(d) Rate Filing: Amendment to Rate Schedule FERC No. 12 to be effective 1/2/2023.

Filed Date: 11/1/22.

Accession Number: 20221101-5151.

Comment Date: 5 p.m. ET 11/22/22.

Docket Numbers: ER23-330-000.

Applicants: Puget Sound Energy, Inc.

Description: § 205(d) Rate Filing: Clearwater 1—Dynamic Transfer Operating Agreement to be effective 11/1/2022.

Filed Date: 11/1/22.

Accession Number: 20221101-5155.

Comment Date: 5 p.m. ET 11/22/22.

Docket Numbers: ER23-331-000.

Applicants: DATC Path 15, LLC.

Description: § 205(d) Rate Filing: Normal filing 2023 Appendix I to be effective 1/1/2023.

Filed Date: 11/1/22.

Accession Number: 20221101-5163.

Comment Date: 5 p.m. ET 11/22/22.

Docket Numbers: ER23-332-000.

Applicants: Transource Oklahoma, LLC, Southwest Power Pool, Inc.

Description: § 205(d) Rate Filing: Transource Oklahoma, LLC submits tariff filing per 35.13(a)(2)(iii: Transource Oklahoma, LLC Regulatory Asset Recovery Filing to be effective 1/1/2023.

Filed Date: 11/1/22.

Accession Number: 20221101-5166.

Comment Date: 5 p.m. ET 11/22/22.

Docket Numbers: ER23-333-000.

Applicants: Southwest Power Pool, Inc.

Description: § 205(d) Rate Filing: Revisions to Remove Barriers to Requesting Surplus Interconnection Service to be effective 1/1/2023.

Filed Date: 11/1/22.

Accession Number: 20221101-5178.

Comment Date: 5 p.m. ET 11/22/22.

Docket Numbers: ER23-334-000.

Applicants: Southwest Power Pool, Inc.

Description: § 205(d) Rate Filing: 1875R5 Kansas Electric Power Cooperative, Inc. NITSA and NOA to be effective 1/1/2023.

Filed Date: 11/1/22.

Accession Number: 20221101-5184.

Comment Date: 5 p.m. ET 11/22/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2022.
Debbie-Anne A. Reese,
Deputy Secretary.

[FR Doc. 2022-24239 Filed 11-4-22; 8:45 am]

BILLING CODE 6717-01-P